NATIONAL SCIENCE FOUNDATION

Agency Information Collection Activities: Proposed Collection; Comment Request

AGENCY: National Science Foundation.

ACTION: Notice.

SUMMARY: The National Science Foundation (NSF) is announcing plans to request establishment and clearance of this collection. In accordance with the requirement of Section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by February 13, 2012 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by email to splimpto@nsf.gov.

FOR FURTHER INFORMATION CONTACT: Ms. Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-(800) 877-8339, which is accessible 24 hours a day, 7 days a week, 365 days a year (including federal holidays).

SUPPLEMENTARY INFORMATION:

Proposed Project

“National STEM Digital Library/Distributed Learning: Phase 3 Evaluation.”

The proposed project includes a survey of teachers' use of the National Science, Technology, Engineering, and Mathematics (STEM) Digital Library/Distributed Learning (NSDL) Program plus antecedents and consequences of NSDL use. NSDL is the NSF's online library of collections and other resources (e.g., tools, services) for STEM education and research. The teacher survey is part of a Phase 3 evaluation that builds upon the findings of earlier phases of a multi-stage program evaluation that relied chiefly on existing data. The survey will be used to understand the frequency with which teachers use NSDL resources, the ways in which they use these resources for STEM teaching, and antecedents of or barriers to such use. Results will be used to identify important lessons learned about the NSDL program from teachers, who are the ultimate consumer of program resources. Currently, there is little or no systematic information about teachers' uses of NSDL despite the significant roles that teachers are expected to play in the program in terms of both stimulating demand for and contributing to the creation of digital STEM resources, tools, and services and also deploying these assets to improve understanding and delivery of STEM teaching and learning.

Method of Collection

Teachers who have registered to use NSDL resources through Teachers' Domain, an NSF-funded pathway, will be recruited to complete the survey. One hundred and eighty teachers will be recruited, with an estimated response rate of 70%. The survey will be administered online, although an option for a paper version with a self-addressed stamped envelope will be provided. The survey consists of 26 questions in the following categories: (1) Background questions regarding use of NSDL resources; (2) frequency of use; (3) types of use; (4) perceived benefits for teaching and learning; (5) ease of use; (6) facilitating conditions; (7) self-efficacy for STEM teaching and learning; (8) social influence; (9) personal innovativeness with technology; and (10) demographic characteristics. Response options for the vast majority of questions in all categories are close-ended (e.g., 7-point scales ranging from strongly disagree to strongly agree). Participants will be given a thank-you gift consisting of a $20 gift certificate to Amazon.com.

Estimated Annual Respondent Burden

Exhibit 1—Estimated Annualized Burden Hours
Form name | Number of respondents | Number of responses per respondent | Hours per response | Total burden hours
Teacher Survey | 180 | 1 | .33 | 60
Total | 180 | 1 | .33 | 60

Exhibit 2—Estimated Annualized Cost Burden
Form name | Number of respondents | Total burden hours | Average hourly wage rate* | Total cost burden
Teacher Survey | 180 | 60 | $26.44 | $1586.40
Total | 180 | 60 | 26.44 | 1586.40
Based upon the mean national hourly wages across elementary, middle, and secondary school teachers, excluding special education and career/technical education, from Occupational Employment and Wages News Release, U.S. Department of Labor, Bureau of Labor Statistics, May 17, 2011. Available at http://www.bls.gov/news.release/ocwage.htm.

Estimated Annual Costs to the Federal Government

The estimated total cost for this effort is $109,000; this cost includes: research staff involved in survey design, piloting, implementation, analysis, and writing. Additional costs included in this amount involve staff time for project management and administration, one-year licenses for survey and analytical software, respondent payments (gift certificates), and a letter agreement with Teachers' Domain to pull the sample and contact potential participants.

Dated: December 8, 2011.
Suzanne Plimpton,
Reports Clearance Officer, National Science Foundation.

[FR Doc. 2011-31994 Filed 12-13-11; 8:45 am]

BILLING CODE 7555-01-P